DEPARTMENT OF TRANSPORTATION

Office of the Secretary of Transportation

[Docket No. DOT-OST-2010-0076]

Notice of Funding Availability for the Department of Transportation's National Infrastructure Investments Under the Transportation, Housing and Urban Development, and Related Agencies Appropriations Act for 2010

AGENCY: Office of the Secretary of Transportation, DOT.

ACTION: Notice of extension of deadline to submit pre-applications.

SUMMARY: On June 1, 2010, DOT published a notice (75 FR 30461) announcing the availability of funding and requesting proposals for DOT's National Infrastructure Investments grant program under the FY 2010 Appropriations Act. The DOT is referring to the grants for National Infrastructure Investments as “TIGER II Discretionary Grants.” Through this notice, DOT is extending the deadline to submit pre-applications for TIGER II Discretionary Grants from July 16, 2010, at 5 p.m. EDT to July 26, 2010, at 5 p.m. EDT. The deadline for submitting final applications is not being extended, and remains August 23, 2010, at 5 p.m. EDT.

DATES: Pre-applications must be submitted by July 26, 2010, at 5 p.m. EDT (the “Pre-Application Deadline”). Final applications must be submitted through Grants.gov by August 23, 2010, at 5 p.m. EDT (the “Application Deadline”). The DOT pre-application system opened on June 23, 2010 to allow prospective applicants to submit pre-applications. Subsequently, the Grants.gov “Apply” function will open on July 30, 2010, allowing applicants to submit applications. While applicants are encouraged to submit pre-applications in advance of the Pre-Application Deadline, pre-applications will not be reviewed until after the Pre-Application Deadline. Similarly, while applicants are encouraged to submit applications in advance of the Application Deadline, applications will not be evaluated, and awards will not be made, until after the Application Deadline. Pursuant to the FY 2010 Appropriations Act, the DOT will evaluate all applications and announce the projects that have been selected to receive TIGER II Discretionary Grants no sooner than September 15, 2010.

ADDRESSES: Pre-applications must be submitted electronically to DOT, and applications must be submitted electronically through Grants.gov. Only pre-applications received by DOT and applications received through Grants.gov will be deemed properly filed. Instructions for submitting pre-applications to DOT and applications through Grants.gov are included in Section VIII (Pre-Application and Application Cycle) of the June 1 notice of funding availability (75 FR 30461).

FOR FURTHER INFORMATION CONTACT: For further information concerning this notice, please contact the TIGER II Discretionary Grant program manager via e-mail at TIGERIIGrants@dot.gov, or call Robert Mariner at 202-366-8914. A TDD is available for individuals who are hearing impaired at 202-366-3993. In addition, DOT will regularly post answers to questions and requests for clarifications on DOT's Web site at http://www.dot.gov/recovery/ost/TIGERII.

SUPPLEMENTARY INFORMATION: On April 26, 2010, DOT published an interim notice (75 FR 21695) announcing the availability of funding and requesting proposals for the Department of Transportation's National Infrastructure Investments program under the Transportation, Housing and Urban Development, and Related Agencies Appropriations Act for 2010 (Div. A of the Consolidated Appropriations Act, 2010 (Pub. L. 111-117, Dec. 16, 2009)) (the “FY 2010 Appropriations Act”). The DOT is referring to the grants for National Infrastructure Investments under the FY 2010 Appropriations Act as “TIGER II Discretionary Grants.” Because this is a new program, the interim notice also requested comments on the proposed selection criteria and guidance for awarding TIGER II Discretionary Grants. The DOT considered the comments that were submitted in accordance with the interim notice and published an additional notice revising some elements of the interim notice on June 1, 2010 (75 FR 30461). This notice makes one additional revision to the notice published on June 1, 2010. This notice extends the deadline for submitting pre-applications from July 16, 2010, at 5 p.m. EDT to July 26, 2010, at 5 p.m. EDT. The deadline for submitting final applications is not being extended, and remains August 23, 2010, at 5 p.m. EDT.

Issued on: June 24, 2010.
Ray LaHood,
Secretary.

[FR Doc. 2010-15936 Filed 6-29-10; 8:45 am]

BILLING CODE 4910-9X-P